DEPARTMENT OF ENERGY

Federal Energy Regulatory Commission

[Docket No. EC05-24-000, et al.]

Virginia Electric and Power Company, et al.; Electric Rate and Corporate Filings

December 8, 2004.

The following filings have been made with the Commission. The filings are listed in ascending order within each docket classification.

1. Virginia Electric and Power Company

[Docket No. EC05-24-000]

Take notice that, on December 3, 2004, Virginia Electric and Power Company (Dominion Virginia Power) filed, pursuant to section 203 of the Federal Power Act (FPA), 16 U.S.C. 824b, and part 33 of the Commission's regulations, 18 CFR part 33 (2004), an application requesting Commission authorization for: (1) The proposed transfer to Dominion Virginia Power, a subsidiary of Dominion Resources, Inc. (DRI), of all of the assets of Panda-Rosemary, L.P. (Panda-Rosemary); and (2) Dominion Virginia Power's ownership of an approximately 181.5 MW generating facility and its appurtenant transmission facilities located in Roanoke Rapids, North Carolina resulting from the proposed acquisition. The Applicant requests that the Commission act on this application within approximately sixty days or by February 2, 2005.

Dominion Virginia Power states that copies of the filing were served upon the parties to the transaction, Dominion Virginia Power's wholesale requirements customers, the Virginia State Corporation Commission and the North Carolina Utilities Commission.

Comment Date: 5 p.m. Eastern Time on December 27, 2004.

2. Rensselaer Plant Holdco, L.L.C.

[Docket No. EG05-22-000]

On December 6, 2004, Rensselaer Plant Holdco, L.L.C. (RPH), a Delaware limited liability company with its principal place of business in Houston, Texas, filed with the Federal Energy Regulatory Commission an application for determination of exempt wholesale generator status pursuant to part 365 of the Commission's regulations.

RPH states that it owns and operates an electric generating facility with a total generating capacity of 79.4 MW natural gas-fired, combined cycle power plant located in Rensselaer, New York. RPH further states that the facility is interconnected to the Niagara Mohawk Power Corporation transmission grid.

Comment Date: 5 p.m. Eastern Time on December 27, 2004.

3. Oklahoma Municipal Power Authority v. American Electric Power Service Co. as agent for the AEP Operating Companies

[Docket No. EL05-38-000]

Take notice that on December 6, 2004, the Oklahoma Municipal Power Authority (OMPA) filed a complaint against the American Electric Power Service Company as agent for the AEP Operating Companies (collectively, AEP) seeking fast track processing and an order directing AEP to file an unexecuted service agreement for the network transmission service OMPA has requested as necessary to facilitate OMPA's contracted for acquisition of an increased ownership interest in Oklaunion Unit No. 1. In particular, OMPA states that it seeks Commission determination as to what additional transmission facilities are necessary to provide the requested service and resolve the issues between OMPA and AEP pertaining to the allocation of costs for and the proper size of the interconnection between ERCOT and SPP.

OMPA states that a copy of the Complaint has been served on Respondent, AEP by electronic and first class mail.

Comment Date: December 28, 2004.

4. AES Londonderry, L.L.C.

[Docket No. ER00-1147-003]

Take notice that on December 2, 2004, Granite Ridge Energy, LLC (Granite Ridge Energy) filed with the Commission a notice of change in status in connection with the transfer of the ownership interests that were held by AES Londonderry Holdings, L.L.C. in the Project Company, which owns and operates a 720-megawatt gas-fired merchant power plant located in Londonderry, New Hampshire, to the creditors of the Project Company.

Comment Date: 5 p.m. Eastern Time on December 23, 2004.

5. South Point Energy Center, LLC; Gilroy Energy Center, LLC; MEP Pleasant Hill, LLC; Acadia Power Partners, LLC

[Docket Nos. ER01-2887-003, ER01-2688-005, ER99-2858-005, ER02-1406-004]

Take notice that on December 3, 2004, South Point Energy Center, LLC, Gilroy Energy Center, LLC, Acadia Power Partners, LLC, and MEP Pleasant Hill, LLC submitted a joint triennial updated market power analysis.

Comment Date: 5 p.m. Eastern Time on December 27, 2004.

6. Pacific Gas and Electric Company

[Docket No. ER04-828-001]

Take notice that on December 3, 2004, Pacific Gas and Electric Company (PG&E) submitted a compliance filing pursuant to the Commission's July 7, 2004 Order in the above-referenced proceeding. PG&E states that the subject filing included an amended agreement entitled Special Facilities Agreement for the Newark Substation Circuit Breaker 460 and 470 Replacement (SFA) between PG&E and the City of Santa Clara, California, doing business as Silicon Valley Power (SVP) (collectively, Parties). PG&E also states that the amendments to the SFA are in compliance with the Commission's July 7, 2004 Order in this proceeding and reflect the outcome of negotiations between the Parties to resolve issues regarding the apportionment of the monthly cost of ownership charge and the costs associated with the design and installation of the special facilities. PG&E further states that the Commission originally accepted and suspended the SFA for filing on July 7, 2004 in FERC Docket No. ER04-828-000 and designated the SFA as Service Agreement No. 60 under FERC PG&E Electric Tariff, Sixth Revised Volume No. 5.

PG&E states that copies of this filing were served upon SVP, the California Independent System Operator, and the California Public Utilities Commission (CPUC).

Comment Date: 5 p.m. Eastern Time on December 27, 2004.

7. MidAmerican Energy Company

[Docket No. ER05-8-001]

Take notice that on December 3, 2004, MidAmerican Energy Company (MidAmerican) tendered for filing Amended Notices of Cancellation of: (1) Electric Service Agreement under FERC Electric Tariff Original Volume No. 6, Service Agreement No. 1, filed by MidAmerican, dated November 16, 1976 (Buffalo Agreement) between MidAmerican and the City of Buffalo, Iowa; and (2) Electric Service Agreement under FERC Electric Tariff Original Volume No. 6, Service Agreement No. 2, dated November 1, 1976 (Callender Agreement) between MidAmerican and the City of Callender, Iowa. MidAmerican requests an effective date of December 31, 2004.

Comment Date: 5 p.m. Eastern Time on December 27, 2004.

8. American Transmission Company LLC

[Docket No. ER05-262-000]

Take notice that on November 24, 2004, American Transmission Company LLC (ATCLLC) tendered for filing a Distribution-Transmission Interconnection Agreement between ATCLLC and Prairie du Sac Utilities. ATCLLC requests an effective date of November 1, 2004.

Comment Date: 5 p.m. Eastern Time on December 15, 2004.

9. Xcel Energy Services Inc.

[Docket No. ER05-293-000]

Take notice that on December 3, 2004, Xcel Energy Services Inc. (Xcel Energy Services), on behalf of itself and the Xcel Energy Operating Companies, namely Northern States Power Company, Northern States Power Company (Wisconsin), Public Service Company of Colorado, and Southwestern Public Service Company, submitted the first amended joint operating agreement among Northern States Power Company, Northern States Power Company (Wisconsin), Public Service Company of Colorado, Southwestern Public Service Company, and Xcel Energy Services Inc. as agent. Xcel Energy Services requests an effective date of February 1, 2005.

Xcel Energy Services states that copies of the filing were served upon the Xcel Energy Services' jurisdictional customers, and the applicable state public utility commissions.

Comment Date: 5 p.m. Eastern Time on December 27, 2004.

10. PacifiCorp

[Docket No. ER05-296-000]

Take notice that on, December 6, 2004, PacifiCorp tendered for filing in accordance with 18 CFR 35 of the Commission's Rules and Regulations a Notice of Cancellation of the May 26, 1960 agreement between PacifiCorp and the Milton-Freewater Electric Department providing an emergency interconnection and standby electric service (PacifiCorp's Rate Schedule FERC No. 52).

PacifiCorp states that copies of this filing were supplied to the Public Utility Commission of Oregon, the Washington Utilities and Transportation Commission, and Milton-Freewater Electric Department.

Comment Date: 5 p.m. Eastern Time on December 27, 2004.

11. PacifiCorp

[Docket No. ER05-297-000]

Take notice that on December 6, 2004, PacifiCorp tendered for filing in accordance with 18 CFR 35 of the Commission's rules and regulations a Notice of Cancellation of the May 10, 1961 agreement between PacifiCorp and the Tillamook People's Utility District providing for the separation of the parties' systems (PacifiCorp's Rate Schedule FERC No. 53).

PacifiCorp states that copies of this filing were supplied to the Public Utility Commission of Oregon, the Washington Utilities and Transportation Commission, and Tillamook People's Utility District.

Comment Date: 5 p.m. Eastern Time on December 27, 2004.

12. PacifiCorp

[Docket No. ER05-298-000]

Take notice that on December 6, 2004, PacifiCorp tendered for filing in accordance with 18 CFR 35 of the Commission's Rules and Regulations a Notice of Cancellation of the February 20, 1958 agreement between PacifiCorp and the Sheridan-Johnson Rural Electrification Association providing for transmission service to Buffalo Substation (PacifiCorp's Rate Schedule FERC No. 59).

PacifiCorp states that copies of this filing were supplied to the Public Utility Commission of Oregon, the Washington Utilities and Transportation Commission, and Powder River Energy Corporation on behalf of Sheridan-Johnson Rural Electrification Association.

Comment Date: 5 p.m. Eastern Time on December 27, 2004.

13. PacifiCorp

[Docket No. ER05-299-000]

Take notice that on December 6, 2004, PacifiCorp tendered for filing in accordance with 18 CFR 35 of the Commission's rules and regulations a Notice of Cancellation of the November 10, 1970 agreement between PacifiCorp and the Central Lincoln People's Utility District providing an emergency interconnection and standby electric service (PacifiCorp's Rate Schedule FERC No. 93).

PacifiCorp states that copies of this filing were supplied to the Public Utility Commission of Oregon, the Washington Utilities and Transportation Commission, and Central Lincoln People's Utility District.

Comment Date: 5 p.m. Eastern Time on December 27, 2004.

14. PacifiCorp

[Docket No. ER05-300-000]

Take notice that on December 6, 2004, PacifiCorp tendered for filing in accordance with 18 CFR 35 of the Commission's rules and regulations a Notice of Cancellation of the October 1, 1965 agreement between PacifiCorp and the Ogden Defense Depot providing for electric and transmission service (PacifiCorp's Rate Schedule FERC No. 285).

PacifiCorp states that copies of this filing were supplied to the Public Utility Commission of Oregon, the Washington Utilities and Transportation Commission, and Hill Air Force Base (on behalf of Ogden Defense Depot).

Comment Date: 5 p.m. Eastern Time on December 27, 2004.

15. PacifiCorp

[Docket No. ER05-301-000]

Take notice that on December 6, 2004, PacifiCorp tendered for filing in accordance with 18 CFR 35 of the Commission's rules and regulations a Notice of Cancellation of the October 30, 1991 agreement between PacifiCorp and the Utah Associated Municipal Power Systems (UAMPS) providing for operation and maintenance of UAMPS' Central Substation by PacifiCorp (PacifiCorp's Rate Schedule FERC No. 317).

PacifiCorp states that copies of this filing were supplied to the Public Utility Commission of Oregon, the Washington Utilities and Transportation Commission, and UAMPS.

Comment Date: 5 p.m. Eastern Time on December 27, 2004.

16. Pinelawn Power LLC

[Docket No. ER05-305-000]

Take notice that on December 6, 2004, Pinelawn Power LLC (Pinelawn Power) filed with Commission, pursuant to section 205 of the Federal Power Act, an application to engage in the sale of electric energy, capacity and ancillary services at market-based rates. Pinelawn Power LLC states that it is engaged in the business of owning and operating a 79.9 MW generation facility located in The Town of Babylon, New York. Pinelawn Power also states that it seeks certain waivers and blanket approvals under the Commission's Regulations and the issuance of a Commission order before February 4, 2005. Pinelawn Power requests an effective date of February 4, 2005.

Pinelawn Power states that a copy of the filing has been served on the Long Island Power Authority, the entity with which Pinelawn Power LLC has contracted for the sale of the entire output of its facility.

Comment Date: 5 p.m. Eastern Time on December 27, 2004.

17. Reliant Energy Wholesale Generation, LLC

[Docket No. ER05-306-000]

Take notice that on December 6, 2004, Reliant Energy Wholesale Generation, LLC (REWG) filed with the Commission a Notice of Succession pursuant to sections 35.16 and 131.51 of the Commission's Regulations, 18 CFR 35.16 and 131.51 (2004), notifying the Commission that REWG is succeeding to the Rate Schedule FERC No. 2 of Reliant Energy Hunterstown, LLC, for reactive supply and voltage control from generation sources service.

Comment Date: 5 p.m. Eastern Time on December 27, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-3699 Filed 12-16-04; 8:45 am]

BILLING CODE 6717-01-P